DEPARTMENT OF ENERGY

Federal Energy Regulatory Commission

[Project No. 7473-013]

John M. Bertl; Notice of Proposed Termination of Exemption by Implied Surrender and Soliciting Comments, Motions To Intervene, and Protests

Take notice that the following hydroelectric proceeding has been initiated by the Commission:

a. Type of Proceeding: Proposed termination of exemption by implied surrender.

b. Project No: 7473-013.

c. Date Initiated: July 5, 2024.

d. Exemptee: John M. Bertl.

e. Name of Project: Gilman Stream Hydroelectric Project.

f. Location: The Gilman Stream Project is located on Gilman Stream in Somerset County, Maine. The project does not occupy Federal lands.

g. Pursuant to: 18 CFR 4.106.

h. Exemptee Contact: Mr. John Bertl, 32 Bog Road, North New Portland, Maine 04961.

i. FERC Contact: Mr. Steven Sachs, (202) 502-8666, Steven.Sachs@ferc.gov.

j. Resource Agency Comments: Federal, State, local and Tribal agencies are invited to file comments on the described proceeding. If an agency does not file comments within the time specified for filing comments, it will be presumed to have no comments.

k. Deadline for filing comments, motions to intervene, and protests: September 3, 2024.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include the docket number P-7473-013. Comments emailed to Commission staff are not part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Authorized Project Facilities: The project works include: (1) a 228-foot-long, 17-foot-high concrete dam; (2) a 790-acre reservoir; (3) a 220-foot-long power canal; (4) a 4-foot-diameter, 140-foot-long steel penstock; (5) a powerhouse with a capacity of 120 kilowatts; (6) a transmission line; and (7) appurtenant facilities. Except for operating emergencies beyond the exemptee's control and for short periods upon mutual agreement with the Maine Department of Environmental Protection and the Gilman Pond Lake Association (Lake Association), the exemptee is required to maintain water levels in accordance with the May 29, 1987 agreement with the Lake Association.

m. Description of Proceeding: The exemptee is in violation of Standard Article 1 of the exemption, issued on June 17, 1987 (North New Portland Energy Corporation, 39 FERC ¶ 62,365), codified in the Commission's regulations at 18 CFR 4.106. Article 1 provides, among other things, that the Commission reserves the right to revoke an exemption if any term or condition of the exemption is violated. The project has not operated since 2008 despite Commission staff's attempts to work with the exemptee to restore project operation.

The exemptee's failure to operate and maintain the project as authorized by its exemption is a violation of Standard Article 1. Following communications beginning in May 2020 between Commission staff and the exemptee regarding restoration of project operation, the exemptee filed a letter on July 25, 2022 stating it planned to surrender the exemption and would not be making substantial repairs or restoring generation. On November 4, 2022, based on the exemptee's intent to surrender the project, Commission staff issued a letter indicating the exemptee should file a surrender application and requested a schedule for the application and documentation providing evidence of any progress towards developing the application. On November 3, 2023, Commission staff issued a letter requesting the exemptee file a surrender application. Sufficient time has passed and the exemptee has failed to file a surrender application or evidence of progress in developing one.

n. Locations of the Project Record: The public record for this project may be viewed on the Commission's website at http://www.ferc.gov using the “eLibrary” link. Enter the docket number excluding the last three digits in the docket number field to access the documents. You may also register online at http://www.ferc.gov/docs-filing/esubscription.asp to be notified via email of new filings and issuances related to this or other pending projects. For assistance, call 1-866-208-3676 or email FERCOnlineSupport@ferc.gov, for TTY, call (202) 502-8659.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 5, 2024.
Debbie-Anne A. Reese,
Acting Secretary.

[FR Doc. 2024-15300 Filed 7-11-24; 8:45 am]

BILLING CODE 6717-01-P